DEPARTMENT OF TRANSPORTATION

Federal Aviation Administration

RTCA; Special Committee 195; Flight Information Services Communications (FISC)

Pursuant to section 10(a)(2) of the Federal Advisory Committee Act (Pub. L. 92-463, 5 U.S.C., Appendix 2), notice is hereby given for Special Committee (SC)-195 meeting to be held December 12-14, 2000, starting at 8:30 a.m. each day. The meeting will be held at NASA Langley Research Center (LaRC), Building 1219, Room 128, 1000 NASA Road, Hampton, VA 23681-2199.

The agenda will include: December 12: Plenary convenes: (1) Welcome and Introductory Remarks; (2) Review Agenda; (3) Working Group (WG)-1, Aircraft Cockpit Weather Display; Plenary reconvenes: (4) Review of Previous Meeting Minutes; (5) Report from WG-1 on Activities; December 13: (6) Resolve Industry Comments on Flight Information Service-Broadcast (FIS-B) Minimum Aviation System Performance Standards (MASPS); December 14: (7) Continue Review and Resolution of Industry Comments on FIS-B Minimum Aviation System Performance Standards (MASPS); (8) Review Issues and Action Items; (9) Address Future Work; (10) Other Business; (11) Date and Location of Next Meeting; (12) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on November 16, 2000.
Janice L. Peters,
Designated Official.

[FR Doc. 00-30257 Filed 11-27-00; 8:45 am]

BILLING CODE 4910-13-M